DEPARTMENT OF LABOR

Employment and Training Administration

[TA-W-59,129]

Fraser Paper Ltd., Gorham, NH; Notice of Termination of Investigation

Pursuant to section 221 of the Trade Act of 1974, as amended, an investigation was initiated on March 31, 2006 in response to a worker petition filed by the United Steel Workers of America, Local 475 on behalf of workers at Fraser Paper LTD, Gorham, New Hampshire.

The petitioning group of workers is covered by an active certification, (TA-W-59,031) which expires on April 14, 2008. Consequently, further investigation in this case would serve no purpose, and the investigation has been terminated.

Signed at Washington, DC this 14th day of April 2006.
Elliott S. Kushner,
Certifying Officer, Division of Trade Adjustment Assistance.

[FR Doc. E6-6847 Filed 5-4-06; 8:45 am]

BILLING CODE 4510-30-P